DEPARTMENT OF DEFENSE

Department of the Army

Availability for Non-Exclusive, Exclusive, or Partially Exclusive Licensing of U.S. Patent Concerning Compositions for Use To Deactivate Organophosphates

AGENCY: U.S. Army Medical Research and Materiel Command, DoD.

ACTION: Notice.

SUMMARY: In accordance with 37 CFR 404.6, announcement is made of the availability for licensing of U.S. Patent 5,695,750 entitled “Compositions for Use to Deactivate Organophosphates” issued December 9, 1997. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A method of detoxifying organophosphates using mutant cholinesterase which resists aging. The addition of oximes to the cholinesterase further retards aging of the cholinesterase.

Luz D. Ortiz,
Army Federal Register Liaison Officer.

[FR Doc. 01-18007 Filed 7-18-01; 8:45 am]

BILLING CODE 3710-08-M